DEPARTMENT OF HOMELAND SECURITY

Federal Emergency Management Agency

[Docket ID FEMA-2007-0008]

National Advisory Council

AGENCY: Federal Emergency Management Agency, DHS.

ACTION: Notice of Federal Advisory Committee Meeting.

SUMMARY: This notice announces the date, time, location and agenda for the next meeting of the National Advisory Council (NAC). At the meeting, the newly formed subcommittees will be reporting back regarding their work since the meeting in February, 2008. The meeting will be open to the public.

DATES: Meeting Dates: Wednesday, May 14, 2008, from approximately 9 a.m. to 5 p.m. and Thursday, May 15, 2008, 9 a.m. to 3:30 p.m. A public comment period will take place on the afternoon of May 15, 2008, approximately between 2:30 p.m. and 3 p.m.

Comment Date: Written comments or requests to make oral presentations must be received by May 6, 2008.

ADDRESSES: The meeting will be held at the Four Points by Sheraton, 10249 W. Irving Park Road, Chicago, IL. Persons wishing to make an oral presentation or who are unable to attend or speak at the meeting may submit written comments. Written comments and requests to make oral presentations at the meeting should be provided to the address listed below and must be received by May 6, 2008. All submissions received must include the Docket ID FEMA-2007-0008 and may be submitted by any one of the following methods:

Federal Rulemaking Portal: http://www.regulations.gov. Follow instructions for submitting comments on the Web site.

E-mail: FEMA-RULES@dhs.gov. Include Docket ID in the subject line of the message.

Facsimile: (866) 466-5370.

Mail: Office of Chief Counsel, Federal Emergency Management Agency, Room 835, 500 C Street, SW., Washington, DC 20472.

Hand Delivery/Courier: Office of the Chief Counsel, Federal Emergency Management Agency, Room 835, 500 C Street, SW., Washington, DC 20472.

Instructions: All submissions received must include the Docket ID FEMA-2007-0008. Comments received will also be posted without alteration at http://www.regulations.gov, including any personal information provided.

Docket: For access to the docket to read background documents or comments received by the National Advisory Council, go to http://www.regulations.gov.

FOR FURTHER INFORMATION CONTACT: Alyson Price, Designated Federal Officer, Federal Emergency Management Agency, 500 C Street, SW., (E Street, 3rd Floor), Washington, DC 20472, telephone 202-646-3746, fax 202-646-3061, and e-mail FEMA-NAC@dhs.gov.

SUPPLEMENTARY INFORMATION: Notice of this meeting is given under the Federal Advisory Committee Act (FACA), Public Law 92-463, as amended (5 U.S.C. App. 1 et seq.). The NAC will meet for the purpose of reviewing the progress of the newly formed subcommittees, will receive an update on the Regional Advisory Councils, transition issues and other matters.

Public Attendance: The meeting is open to the public. Please note that the meeting may close early, if all business is finished. Persons with disabilities who require special assistance should advise the Designated Federal Officer of their anticipated special needs as early as possible. Members of the public who wish to make comments on Thursday May 15, between 2:30 p.m. and 3 p.m. are requested to register in advance. In order to allow as many people as possible to speak, speakers are requested to limit their remarks to 3 minutes. For those wishing to submit written comments, please follow the procedure noted above.

Dated: April 15, 2008.
R. David Paulison,
Administrator, Federal Emergency Management Agency.

[FR Doc. E8-8828 Filed 4-22-08; 8:45 am]

BILLING CODE 9111-48-P